DEPARTMENT OF TRANSPORTATION

Federal Railroad Administration

[Docket No. FRA-2016-0002-N-26]

Proposed Agency Information Collection Activities; Comment Request

AGENCY: Federal Railroad Administration (FRA), U.S. Department of Transportation (DOT).

ACTION: Notice and request for comments.

SUMMARY: On October 18, 2016, under its emergency processing procedures, the Office of Management and Budget (OMB) approved the information collection activities associated with FRA's Railworthiness Directive No. 2016-01. This 6-month approval expires on April 30, 2017. Since OMB's approval of the information collection activities associated with Railworthiness Directive No. 2016-01, on November 18, 2016, FRA issued a revised Railworthiness Directive which supersedes the original Directive. FRA is now seeking approval for the revised information collection activities and associated burden listed below. Before submitting this information collection request (ICR) to OMB for approval, FRA is soliciting public comment on specific aspects of the activities, which are identified in this notice.

DATES: Comments must be received no later than February 21, 2017.

ADDRESSES: Submit written comments on any or all of the following proposed activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-0616.” Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Safety Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132). (These telephone numbers are not toll free.)

SUPPLEMENTARY INFORMATION: The PRA, 44 U.S.C. 3501-3520, and its implementing regulations, 5 CFR part 1320, require Federal agencies to provide 60 days' notice to the public to allow comment on information collection activities before seeking OMB approval to implement them. 44 U.S.C. 3506(c)(2)(A); 5 CFR 1320.8(d)(1), 1320.10(e)(1), 1320.12(a). Accordingly, FRA invites interested persons to comment on the following summary of proposed information collection activities regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques and other forms of information technology (e.g., permitting electronic submission of responses). See 44 U.S.C. 3506(c)(2)(A)(i)-(iv); 5 CFR 1320.8(d)(1)(i)-(iv).

FRA believes soliciting public comment will promote its efforts to reduce the administrative and paperwork burdens associated with the collection of information that its actions mandate. In summary, FRA reasons that comments received will advance three objectives: (1) Reduce reporting burdens; (2) organize information collection requirements in a “user-friendly” format to improve the use of such information; and (3) accurately assess the resources expended to retrieve and produce information requested. See 44 U.S.C. 3501.

Below is a brief summary of currently approved information collection activities that FRA will submit for clearance by OMB as required under the PRA:

Title: RAIL WORTHINESS DIRECTIVE (RWD) RWD No. 2016-01 [REVISED] (previously approved by OMB under the title Railworthiness Directive for Certain Tank Cars Equipped with Bottom Outlet Valve Assembly and Constructed by American Railcar Industries and ACF Industries).

OMB Control Number: 2130-0616.

Abstract: An FRA investigation identified a certain design of specification DOT-111 tank cars that American Railcar Industries, Inc. (ARI) and ACF Industries, LLC (ACF) manufactured using welding practices not in conformance with Federal regulations and Association of American Railroads' welding specifications. The cars are built to the ARI and ACF 300 stub sill design and are equipped with a two-piece cast sump and bottom outlet valve (BOV) skid. As a result of the nonconforming welding practices, these cars may have substantial weld defects at the sump and BOV skid groove attachment welds, potentially affecting each tank car tank's ability to retain its contents during transportation. On September 30, 2016, FRA issued Railworthiness Directive No. 2016-01. On November 18, 2016, FRA issued a revised Railworthiness Directive (Revised Directive) on its Web site to all owners of ARI or ACF general purpose tank cars in the United States manufactured to this design. This ICR applies to the Revised Directive. The Revised Directive generally requires owners to: (1) Identify tank cars in their fleet covered by this Revised Directive; and (2) ensure appropriate inspection and testing of each tank car's sump and BOV skid attachment welds to ensure no flaw exists that could result in the loss of tank integrity.

Form Number(s): N/A.

Affected Public: Businesses (tank car owners, shippers, and tank car facilities).

Respondent Universe: 100 tank car owners.

Frequency of Submission: One-time; on occasion.

Affected Public: Businesses.

Reporting Burden:

Section of RWD No. 2016-01 [REVISED] | Respondent universe | Total annual responses | Average time per response | Total annual burden hours
Identification of tank cars covered by the directive for certain railroad tank cars equipped with bottom outlet valve assembly and constructed by American Railcar Industries and ACF Industries (14,800 cars) | 20 tank car owners (100 lessees/sub-lessees) | 20 ID reports | 4 hours | 80
Visual inspection of sump weld area of all tank cars identified under this directive (performed prior to each loaded trip) | 20 tank car owners (100 lessees/sub-lessees) | 88,800 inspections/records | 5 min | 7,400
Inspect and test sump and BOV skid groove as stipulated in directive and maintain record results | 20 tank car owners (100 lessees/sub-lessees) | 2,200 records | 3 hours | 6,600
Personnel qualification and certification check (100 tank car mechanics) | 10 tank car facility operators | 100 checks | 15 min | 25
Train and test tank car mechanics who are “not qualified” on NDT procedures and record qualification (⅓ of the 100 tank car mechanics) | 10 tank car facility operators | 33 trained and tested mechanics | 4 hours | 132
Tank car owner notification to all parties under contract to car owner, including lessees and/or sub-lessees, using cars subject to directive of terms of this directive and inspection/testing schedule | 20 tank car owners (100 lessees/sub-lessees) | 100 notices | 1 hour | 100
Report of inspection, test, and repair information stipulated in paragraph 2(g) of directive to FRA | 20 tank car owners (100 lessees/sub-lessees) | 2,200 reports | 90 min. per car/report | 3,300
Repairs: 15 percent of relevant tank fleet of 14,800 cars—record and report of repairs to tank car owners | 10 tank car facility operators | 330 car reports/records | 16 hours | 5,280
Tank car facility request to tank car owner for written permission and approval of qualification and maintenance program it will use consistent with Appendices D, R, and W of the Tank Car Manual and 49 CFR 180.513 prior to initiating any repairs | 10 tank car facility operators | 20 requests + 20 written permissions | 10 min. + 10 min | 7
Tank car facility report of all work performed to tank car owner | 10 tank car facility operators | Burden included directly above | N/A | N/A

Total Estimated Annual Responses: 93,823.

Total Estimated Annual Burden: 22,924 hours.

Type of Request: Regular clearance of an information collection previously approved under emergency processing procedures.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on December 8, 2016.
Patrick T. Warren,
Acting Executive Director.

[FR Doc. 2016-30740 Filed 12-20-16; 8:45 am]

BILLING CODE 4910-06-P